DEPARTMENT OF ENERGY

Federal Energy Regulatory Commission

[Project No. 2837-033]

Notice of Settlement Agreement, Soliciting Comments, and Modification of Procedural Schedule: Erie Boulevard Hydropower, LP

Take notice that the following settlement agreement has been filed with the Commission and is available for public inspection.

a. Type of Application: Offer of Settlement (Settlement).

b. Project No.: P-2837-033.

c. Date filed: March 29, 2019.

d. Applicant: Erie Boulevard Hydropower, L.P. (Erie).

e. Name of Project: Granby Hydroelectric Project (Granby Project).

f. Location: On the Oswego River in the town of Fulton in Oswego County, New York. The project does not affect federal lands.

g. Filed Pursuant to: Rule 602 of the Commission's Rules of Practice and Procedure, 18 CFR 385.602.

h. Applicant Contact: Steven P. Murphy, Director, U.S. Licensing, Erie Boulevard Hydropower, L.P., 33 West 1st Street South, Fulton, NY 13069; (315) 598-6130; steven.murphy@brookfieldrenewable.com.

i. FERC Contact: Allyson Conner, (202) 502-6082 or allyson.conner@ferc.gov.

j. Deadline for filing comments: Comments on the Settlement, and comments, recommendations, terms and conditions, and prescriptions in response to the Commission's November 16, 2018 Notice of Application Ready for Environmental Analysis (REA Notice) ¹ are due within 20 days from the issuance date of this notice. Reply comments are due within 65 days of the issuance date of this notice.

¹ The Commission's Notice of Comment Period Extension issued on February 11, 2019 extended the deadline for filing comments, recommendations, terms and conditions, and prescriptions in response to the REA Notice until April 4, 2019.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2837-033.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Erie filed the Granby Hydroelectric Project Offer of Settlement (Settlement) on behalf of itself, the United States Department of the Interior—Fish and Wildlife Service, and the New York State Department of Environmental Conservation (Settlement Parties). Erie states that the goal of the Settlement is to provide for the continued operation of the Granby Project with appropriate long-term environmental protection, enhancement, and mitigation measures that meet the diverse objectives for maintaining a balance of non-power and power values on the Oswego River. The Settlement provides for the resolution of operational, fisheries, wildlife, water quality, and recreational issues raised by the Settlement Parties. Erie requests that the Commission incorporate language included in the Settlement for a 34-year license term into any new license issued. This would allow for the alignment of future Granby Project relicensing proceedings with the Oswego River Project No. 2474; the Granby Project shares a dam with the Fulton Development of the Oswego Project. Lastly, the Settlement incorporates, by reference, an Invasive Species Management Plan (Appendix A), a Bat and Bald Eagle Protection Plan (Appendix B), and a Trashrack and Fishway Operations and Maintenance Plan (Appendix C).

l. A copy of the Settlement is available for review at the Commission in the Public Reference Room, or may be viewed on the Commission's website at http://www.ferc.gov, using the “eLibrary” link. Enter the docket number, excluding the last three digits in the docket number field, to access the document. For assistance, contact FERC Online Support. A copy is also available for inspection and reproduction at the address in item h above.

All filings must (1) bear in all capital letters the title “Comments,” “Reply Comments,” “Recommendations,” “Preliminary Terms and Conditions,” or “Preliminary Fishway Prescriptions;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

Register online at http://www.ferc.gov/docs-filing/esubscription.asp to be notified via email of new filings and issuances related to this or other pending projects. For assistance, contact FERC Online Support.

m. Procedural Schedule:

The Commission's February 11, 2019 Notice of Comment Period Extension established April 4, 2019 as the deadline for filing comments, recommendations, terms and conditions, and fishway prescriptions regarding Erie's license application. However, in order to allow adequate time for stakeholder comments regarding the Settlement, we have modified the comment period to allow stakeholders to submit comments on the Settlement and comments, recommendations, terms and conditions, and fishway prescriptions regarding the license application on the same date, and allow Erie sufficient time to submit reply comments. The application will be processed according to the following revised Hydro Licensing Schedule. Revisions to the schedule may be made as appropriate. If the due date falls on a weekend or holiday, the due date is the following business day.

Milestone | Target date
Filing of comments, recommendations, preliminary terms and conditions, and preliminary fishway prescriptions (per the REA Notice) and comments on the Settlement | April 28, 2019.
Reply comments due | June 12, 2019.
Commission Issues EA | October 2019.
Comments on EA | November 2019.

Dated: April 8, 2019.
Kimberly D. Bose,
Secretary.

[FR Doc. 2019-07289 Filed 4-11-19; 8:45 am]

BILLING CODE 6717-01-P